FEDERAL MARITIME COMMISSION

Ocean Transportation Intermediary License Reissuances

Notice is hereby given that the following Ocean Transportation Intermediary license have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License no. | Name/address | Date reissued
003966F | Amerasa Rapid Transit USA Inc., 2490-M Arnold Industrial Way, Concord, CA 94520 | September 21, 2004.
009867N | ZHarro Schumacher dba Schumacher Cargo Lines, 15501 Texaco Avenue, Paramount, CA 90723 | September 23, 2004.
004395F | Superior Link International Inc., 380 S. Lemon Avenue, Suite B1-G, Walnut, CA 91789 | September 27, 2004.

Sandra L. Kusumoto,
Director, Bureau of Certification and Licensing.

[FR Doc. 04-23487 Filed 10-19-04; 8:45 am]

BILLING CODE 6730-01-P